DEPARTMENT OF DEFENSE

Office of the Secretary

Proposed Collection; Comment Request

AGENCY: Office of the Under Secretary of Defense (Personnel and Readiness).

ACTION: Notice.

In compliance with the Paperwork Reduction Act of 1995, 44 U.S.C. 3506(c)(2)(A), the Office of the Under Secretary of Defense (Personnel and Readiness) announces the following proposed new public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by May 1, 2000.

ADDRESSES: Written comments and recommendations on the proposed information collection should be sent to the Department of Defense Education Activity, ATTN: Ms. Kristin Medhurst, 4040 North Fairfax Drive, Arlington, VA 22203-1635, telephone (703) 796-4385.

FOR FURTHER INFORMATION CONTACT: To request more information on this proposed information collection or to obtain a copy of the proposal and associated collection instruments, please write to the above address or call at (703) 696-4471.

Title, and OMB Control Number: Department of Defense Education Activity (DoDEA) Customer Satisfaction Survey, OMB Number [to be determined].

Needs and Uses: This information collection requirement is necessary to provide stakeholders of the Department of Defense (DoD) schools an opportunity to express their level of satisfaction with various issues pertaining to the schools. These topics include equipment and facilities, computer technology, curriculum, administration, teachers, parent involvement, and communications. The information obtained will be used for program monitoring and strategic school improvement planning.

Affected Public: Individuals or households.

Annual Burden Hours: 522 hours for parents, 12,840 for students.

Number of Respondents: 1,045 parents, 25,680 students.

Responses Per Respondent: 1.

Average Burden Per Response: 30 minutes.

Frequency: biennially, beginning February 2001.

SUPPLEMENTARY INFORMATION:

Summary of Information Collection

The DoDEA Customer Satisfaction Survey is a tool used to measure Goal 9: Accountability, Benchmark 4 of the DoD Education Activity (DoDEA) Community Strategic Plan. The DoDEA Community Strategic Plan was written to meet DoD Reform Initiative Directive #23: Defense Agency Performance Contracts which states: “The Directors of the specified Agencies and Field Activities will submit a performance contract covering the period of the Future Years Defense Plan (FYDP), FY 2000 through FY 2005. Each performance contract shall include measures of customer satisfaction with the goods and services provided by the agency or Field Activity, including the timeliness of deliveries of products and services.

The parent questionnaire component of this program will give parents of students attending DoD schools an opportunity to comment on their level of satisfaction with various issues related to their child's education. Some of these topics include equipment and facilities, computer technology, curriculum, administration, teachers, parent involvement, and communications. Parents of students attending DoD schools will be provided an opportunity to respond to the DoDEA Customer Satisfaction Survey-Parent Questionnaire biennially. Respondents of this questionnaire will be parents of those students attending DoDEA schools, both in the continental United States and Overseas.

The student questionnaire component of this program will give students attending DoD schools an opportunity to comment on their level of satisfaction with various issues related to their education. Some of these topics include equipment and facilities, computer technology, curriculum, teachers, administration, and school buses. Questions will also be asked of the students that may be perceived as sensitive. The nature of these questions pertains to drugs, alcohol, and sexual issues. These questions are similar to questions found on nationwide surveys of students such as the National Health Interview Survey. It is imperative that the agency collect data in order to adequately prepare programs addressing these issues. Additionally, the military and other stakeholders frequently request comparisons between the perceptions of DoDEA students and students in public schools across the United States on these issues necessitating the need for this information. Students will be asked to respond to this questionnaire biennially, through an anonymous administration procedure. Questionnaire respondents will be students attending DoD schools, both in the continental United States and overseas.

Dated: February 23, 2000.
L.M. Bynum,
Alternate OSD Federal Register Liaison Officer, Department of Defense.

[FR Doc. 00-4671 Filed 2-28-00; 8:45 am]

BILLING CODE 5001-10-M